COMMITTEE FOR PURCHASE FROM PEOPLE WHO ARE BLIND OR SEVERELY DISABLED

Procurement List; Addition and Deletions

AGENCY: Committee for Purchase From People Who Are Blind or Severely Disabled.

ACTION: Addition to and deletions from the Procurement List.

SUMMARY: This action adds a service to the Procurement List that will be furnished by nonprofit agencies employing persons who are blind or have other severe disabilities, and deletes services from the Procurement List previously furnished by such agencies.

DATES: Date added to and deleted from the Procurement List: September 29, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Addition

On 5/17/2019, the Committee for Purchase From People Who Are Blind or Severely Disabled published notice of proposed addition to the Procurement List.

The Commission received a public comment from counsel for the current contractor, citing impact on one employee who currently performs this work, lack of experience, and safety concerns for people with severe disabilities as the reasons for his client's objection to the Commission's action. The counsel asked the Commission to delay the addition of the service to the Procurement List until he and his client can address the Commission in person. For the reasons described below, the Commission has determined that the proposed Waste Management Services are suitable to be added to the Procurement List.

The mission of the AbilityOne Program is to create employment opportunities for people who are blind or severely disabled through the Federal procurement system. In the process of adding products or services to the Program, the Commission is required to perform an impact analysis on the current contractor, which was accomplished with a finding of no severe adverse impact. In accordance with 41 CFR 51-2.4(a)(4), the impact analysis focused on the company, rather than a specific individual. Further, if the project is not added to the AbilityOne Program, the current contractor will have to re-compete for a new contract, with no guarantee of a winning bid.

For 23 years, the nonprofit agency proposed to perform the work, CW Resources, Inc. (CWR), has successfully provided similar trash hauling services for the U.S. Coast Guard Academy. This past performance is geographically relevant, as it is also located in New London, CT, making CWR familiar with waste management processes in this area. In addition, CWR is well established in the janitorial line of business, and performs on 46 Procurement List projects that are either purely janitorial/custodial projects or have a custodial component (e.g., PL# 20145065, Janitorial, Grounds and Refuse Collection, U.S. Air Force, Arnold Air Force Base, TN.)

Regarding the safety of individuals with significant disabilities, CWR has identified direct labor positions and tasks that can be safely performed by people with significant disabilities. The waste management work includes janitorial and clerical tasks, both of which are core competencies for CWR and other nonprofit agencies in the AbilityOne Program. CWR will ensure that the candidates for these direct labor tasks have the appropriate documentation of disability to qualify under the definitions in the Javits-Wagner-O'Day Act and the Commission's regulation. The Commission recognizes that some significant disabilities are not physically limiting. Further, the Commission concludes that several of the waste management tasks can be performed by a person with one or more functional limitations described in 41 CFR 51-1.3.

The Commentor requested to make an oral presentation to the Commission prior to the Agency's suitability determination regarding adding this service to the Procurement List. The Commission does not accept meeting requests from current contractors prior to commencing deliberations, as there is no provision in regulation for such meetings. Rather, any public party may request reconsideration after a Commission decision to add a product or service to the PL.

After consideration of the material presented to it concerning capability of qualified nonprofit agencies to provide the service and impact of the addition on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following service is added to the Procurement List:

Service

Service Type: Waste Management

Mandatory for: US Navy, NAVFAC Mid Atlantic Division, Naval Submarine Base New London, Groton, CT

Mandatory Source of Supply: CW Resources, Inc., New Britain, CT

Contracting Activity: DEPT OF THE NAVY, NAVAL FAC ENGINEERING CMD MID LANT

Deletions

On 7/26/2019, the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Recycling, End of Life Electronics

Mandatory for: U.S. Mint: 633 3rd Street NW, Washington, DC

Mandatory Source of Supply: ServiceSource, Inc., Oakton, VA

Contracting Activity: TREASURY, DEPARTMENT OF THE, DEPT OF TREAS/

Service Type: Janitorial/Custodial

Mandatory for: Department of Energy: Yucca Mountain Site Characterization Office, Las Vegas, NV

Mandatory Source of Supply: Opportunity Village Association for Retarded Citizens, Las Vegas, NV

Contracting Activity: ENERGY, DEPARTMENT OF, HEADQUARTERS PROCUREMENT SERVICES

Service Type: Custodial Services

Mandatory for: VA Medical Center, Washington, DC

Mandatory Source of Supply: Didlake, Inc., Manassas, VA

Contracting Activity: VETERANS AFFAIRS, DEPARTMENT OF, NAC

Patricia Briscoe,
Deputy Director, Business Operations (Pricing and Information Management).

[FR Doc. 2019-18792 Filed 8-29-19; 8:45 am]

BILLING CODE 6353-01-P